FEDERAL COMMUNICATIONS COMMISION

Notice of Public Information Collection(s) Being Reviewed by the Federal Communications Commission

September 16, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 25, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov

FOR FURTHER INFORMATION CONTACT: For additional information or copies of the information collection(s) contact Les Smith at 202-418-0217 or via the Internet at lesmith@fcc.gov.

SUPPLEMENTARY INFORMATION: OMB Control Number: 3060-0718.

Title: Part 101, Governing the Terrestrial Microwave Fixed Radio Service.

Form Number: N/A.

Type of Review: Extension of a currently approved collection.

Respondents: Business or other for-profit entities; Not-for-profit institutions; and State, Local, or Tribal Government.

Number of Respondents: 20,489.

Estimate Time per Response: 0.5 to 1.77 hours.

Frequency of Response: Recordkeeping; On occasion reporting requirements.

Total Annual Burden: 1,609 hours.

Total Annual Costs: $90,624.

Needs and Uses: Sections 308, 309, and 310 of the Communications Act of 1934, as amended, 47 U.S.C. Section 310, require applicants and licensees who operate stations in the public and private operational fixed services to meet certain technical, legal, and other qualifications and to comply with station ownership and transfer restrictions.

OMB Control Number: 3060-0740.

Title: Section 95.1015, Disclosure Policies.

Form Number: N/A.

Type of Review: Extension of a currently approved collection.

Respondents: Business or other for-profit entities.

Number of Respondents: 203.

Estimate Time per Response: 1 hour.

Frequency of Response: On occasion reporting requirements; Third party disclosure.

Total Annual Burden: 203 hours.

Total Annual Costs: $10,000.

Needs and Uses: Amendments to the Commission's Rules governing Low Power Radio and Automated Maritime Telecommunications System (AMTS) operations in the 216-217 MHz band require manufacturers of low power radio service (LPRS) equipment to include a statement covering the use of the equipment to ensure that television stations, which may be effected, are made aware of the location of potential harmful interference from AMTS operations.

Federal Communications Commission.
Marlene H. Dortch,
Secretary.

[FR Doc. 02-24422 Filed 9-25-02; 8:45 am]

BILLING CODE 6712-10-P